DEPARTMENT OF TRANSPORTATION

Federal Aviation Administration

Public Notice for a Change in Use of Aeronautical Property at Lawrence Municipal Airport, Lawrence, MA

AGENCY: Federal Aviation Administration (FAA), DOT.

ACTION: Request for public comments.

SUMMARY: The FAA is requesting public comment on the City of Lawrence, Massachusetts request to change a portion (approx. 1.38 acres) of Airport property from aeronautical use to non-aeronautical use. The property is located on Clark Street and is adjacent to 21 Clark Street. The property is and will continue to be utilized for vehicle parking associated with a business located at 21 Clark Street. The property was acquired under FAAP Project Nos. 9-19-0007-0804 and 9-19-007-6106.

This notice is as a result of a corrective action item in response to a land use inspection that found the unauthorized use of airport property.

All revenues derived from the lease of the property will be used for airport purposes in accordance with FAA's Policy and Procedures Concerning the Use of Airport Revenue, published in the Federal Register on February 16, 1999.

DATES: Comments must be received on or before July 6, 2004.

ADDRESSES: Documents are available for review by appointment only by contacting Mr. Michael P. Miller, at Lawrence Municipal Airport, 492 Sutton Street, North Andover, Massachusetts 01845, telephone (978) 794-5880 and the Federal Aviation Administration, 16 New England Executive Park, Burlington, Massachusetts. Written comments on the Sponsor's request must be delivered or mailed to Ms. Donna R. Witte, Airports Program Specialist, Federal Aviation Administration, 12 New England Executive Park, Burlington, MA 01803, tel. (781) 238-7624.

FOR FURTHER INFORMATION CONTACT: Donna R. Witte at the Federal Aviation Administration, 12 New England Executive Park, Burlington, Massachusetts 01803, telephone (781) 238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts, on May 18, 2004.
Vincent A. Scarano,
Manager, Airports Division, New England Region.

[FR Doc. 04-12542 Filed 6-2-04; 8:45 am]

BILLING CODE 4910-13-M